ENVIRONMENTAL PROTECTION AGENCY

[EPA-HQ-OPP-2018-0014; FRL-9993-41]

Notice of Receipt of Requests To Voluntarily Cancel Certain Pesticide Registrations and Amend Registrations To Terminate Certain Uses

AGENCY: Environmental Protection Agency (EPA).

ACTION: Notice.

SUMMARY: In accordance with the Federal Insecticide, Fungicide, and Rodenticide Act (FIFRA), EPA is issuing a notice of receipt of requests by the registrants to voluntarily cancel certain pesticide product registrations and to amend certain product registrations to terminate uses. EPA intends to grant these requests at the close of the comment period for this announcement unless the Agency receives substantive comments within the comment period that would merit its further review of the requests, or unless the registrants withdraw their requests. If these requests are granted, any sale, distribution, or use of products listed in this notice will be permitted after the registrations have been cancelled and uses terminated only if such sale, distribution, or use is consistent with the terms as described in the final order.

DATES: Comments must be received on or before July 1, 2019.

ADDRESSES: Submit your comments, identified by docket identification (ID) number EPA-HQ-OPP-2018-0014, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW, Washington, DC 20460-0001.

Submit written withdrawal request by mail to: Information Technology and Resources Management Division (7502P), Office of Pesticide Programs, Environmental Protection Agency, 1200 Pennsylvania Ave. NW, Washington, DC 20460-0001. ATTN: Christopher Green.

• Hand Delivery: To make special arrangements for hand delivery or delivery of boxed information, please follow the instructions at http://www.epa.gov/dockets/contacts.html. Additional instructions on commenting or visiting the docket, along with more information about dockets generally, is available at http://www.epa.gov/dockets.

FOR FURTHER INFORMATION CONTACT: Christopher Green, Information Technology and Resources Management Division (7502P), Office of Pesticide Programs, Environmental Protection Agency, 1200 Pennsylvania Ave. NW, Washington, DC 20460-0001; telephone number: (703) 347-0367; email address: green.christopher@epa.gov.

SUPPLEMENTARY INFORMATION:

I. General Information

A. Does this action apply to me?

This action is directed to the public in general and may be of interest to a wide range of stakeholders including environmental, human health, and agricultural advocates; the chemical industry; pesticide users; and members of the public interested in the sale, distribution, or use of pesticides. Since others also may be interested, the Agency has not attempted to describe all the specific entities that may be affected by this action.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

II. What action is the agency taking?

This notice announces receipt by EPA of requests from registrants to cancel certain pesticide products and amend product registrations to terminate certain uses registered under FIFRA section 3 (7 U.S.C. 136a) or 24(c) (7 U.S.C. 136v(c)). The affected products and the registrants making the requests are identified in Tables 1-3 of this unit.

Unless a request is withdrawn by the registrant or if the Agency determines that there are substantive comments that warrant further review of this request, EPA intends to issue an order in the Federal Register canceling and amending the affected registrations.

Table 1—Product Registrations With Pending Requests for Cancellation
Registration No. | Company No. | Product name | Active ingredients
100-1083 | 100 | Doubleplay Selective Herbicide | Carbamothioic acid, dipropyl-, S-ethyl ester & Acetochlor.
279-3556 | 279 | Nic-It Herbicide | Nicosulfuron.
279-3577 | 279 | Solida Grande Herbicide | Rimsulfuron & Nicosulfuron.
279-3593 | 279 | Harrow Herbicide | Rimsulfuron & Thifensulfuron.
499-534 | 499 | TC 281 | Fludioxonil.
1258-161 | 1258 | HTH Dry Chlorinator Granular for Swimming Pools 70% | Calcium hypochlorite.
1258-162 | 1258 | HTH Dry Chlorinator for Swimming Pools Tablet 70% | Calcium hypochlorite.
1258-974 | 1258 | Calcium Hypochlorite Tablets—65 | Calcium hypochlorite.
1258-1064 | 1258 | Calcium Hypochlorite Sanitizer Tablets 60 | Calcium hypochlorite.
1258-1171 | 1258 | HTH Tablets 75 | Calcium hypochlorite.
1258-1218 | 1258 | Calcium Hypochlorite 20 Gram Tablets | Calcium hypochlorite.
1258-1240 | 1258 | HTH Granular Sanitizer/Shock | Calcium hypochlorite.
1258-1281 | 1258 | Pool Breeze Pool Care System Shock Treatment and Superchlorinator | Calcium hypochlorite.
1258-1333 | 1258 | AW08 | Calcium hypochlorite.
1258-1348 | 1258 | AW78 | Sodium hypochlorite.
1258-1356 | 1258 | AW88 (ICM) | Calcium hypochlorite.
1258-1357 | 1258 | AW88 (MASS) | Calcium hypochlorite.
1258-1360 | 1258 | AW91 (MASS) | Calcium hypochlorite.
1258-1362 | 1258 | AW91 (RPL) | Calcium hypochlorite.
1543-16 | 1543 | Leather Therapy | o-Phenylphenol (No Inert Use).
2693-188 | 2693 | Intersmooth 365 Ecoloflex SPC Antifouling BEA 363 | Cuprous oxide & Zinc pyrithione.
2693-194 | 2693 | Optima Activator | Zinc pyrithione.
2693-200 | 2693 | Multi-Micron Antifouling-Blue | Cuprous oxide & Zinc pyrithione.
2693-222 | 2693 | Trilux CF—Black | Zinc pyrithione.
2693-223 | 2693 | Trilux ABF-White | Zinc pyrithione.
2749-587 | 2749 | Buprofezin 70WDG IGR | Buprofezin.
3008-91 | 3008 | ORD-X378 | Copper, bis(8-quinolinolato-N1,O8)-,.
5185-459 | 5185 | Proteam HGH-Tech Tabs | Boron sodium oxide (B4Na2O7), pentahydrate & Trichloro-s-triazinetrione.
5481-525 | 5481 | Lorsban 15G Smartbox | Chlorpyrifos.
7969-93 | 7969 | FACET 50 WP | Quinclorac.
7969-113 | 7969 | Paramount Herbicide | Quinclorac.
7969-130 | 7969 | Drive 75 DF Herbicide | Quinclorac.
7969-152 | 7969 | Paramount BW Herbicide | Quinclorac & 2,4-D.
7969-158 | 7969 | FACET GR Herbicide 46 | Quinclorac.
7969-267 | 7969 | Onetime Herbicide | Quinclorac; Dicamba & Mecoprop-P.
7969-313 | 7969 | FACET 75 DF Herbicide | Quinclorac.
7969-342 | 7969 | Boric Acid Granular Insect Bait | Boric acid.
10404-37 | 10404 | PCNB 12.5% Plus Fertilizer | Pentachloronitrobenzene.
10772-23 | 10772 | Capricorn | Tetraacetylethylenediamine & Sodium percarbonate.
19713-297 | 19713 | Ida Inc. Sodium Hypochlorite | Sodium hypochlorite.
19713-312 | 19713 | Drexel PCNB-2E Liquid | Pentachloronitrobenzene.
40810-19 | 40810 | Irgaguard (R) B502 1 | Silver & Zinc.
40810-23 | 40810 | Irgaguard B102 N | Silver & Zinc.
40810-25 | 40810 | Irgaguard B 102 Z | Zinc.
40810-26 | 40810 | Irgaguard B 102 M | Silver.
40810-27 | 40810 | Irgaguard B6000 | Zinc & Silver.
47033-20001 | 47033 | Cascade S100L | Sodium hypochlorite.
47371-191 | 47371 | Formulation HWS-512 | Alkyl* dimethyl benzyl ammonium chloride *(50%C14, 40%C12, 10%C16) & 1-Decanaminium, N-decyl-N,N-dimethyl-, chloride.
55852-4 | 55852 | Sodium Hypochlorite Solution | Sodium hypochlorite.
67690-37 | 67690 | CuPro 2005 T/N/O | Copper hydroxide.
70506-277 | 70506 | Symmetry II | Copper carbonate, basic.
70627-69 | 70627 | Terrific Antibacterial Disinfectant Sanitizer | Alkyl* dimethyl ethylbenzyl ammonium chloride *(68%C12, 32%C14) & Alkyl* dimethyl benzyl ammonium chloride *(60%C14, 30%C16, 5%C18, 5%C12).
70627-73 | 70627 | Scrubbing Bubbles Disinfectant Bathroom Cleaner | 1-Decanaminium, N-decyl-N,N-dimethyl-, chloride; 1-Octanaminium, N,N-dimethyl-N-octyl-, chloride; 1-Decanaminium, N,N-dimethyl-N-octyl-, chloride & Alkyl* dimethyl benzyl ammonium chloride *(50%C14, 40%C12, 10%C16).
71326-2 | 71326 | Sweetwater Purifier Solution | Sodium hypochlorite.
87246-5 | 87246 | Protx2 AV | Poly(iminoimidocarbonyliminoimidocarbonyliminohexamethylene) hydrochloride.
87373-21 | 87373 | ARG Oxamyl Technical | Oxamyl.
87373-22 | 87373 | ARG Oxamyl MUP | Oxamyl.
89046-11 | 89046 | Bioprotec Caterpillar Insecticide Concentrate | Bacillus thuringiensis subspecies kurstaki, strain EVB-113-19.
89046-12 | 89046 | Bioprotec Plus | Bacillus thuringiensis subspecies kurstaki, strain EVB-113-19.
89046-14 | 89046 | Bioprotek | Bacillus thuringiensis subspecies kurstaki, strain EVB-113-19.
91234-53 | 91234 | A127.01 | Oxamyl.
91234-54 | 91234 | A127.02 | Oxamyl.
91234-99 | 91234 | A308.07 | Prodiamine & Sulfentrazone.
AR-090002 | 279 | Authority MTZ DF Herbicide | Metribuzin & Sulfentrazone.
AR-130005 | 69969 | Avipel Liquid Corn Seed Treatment | Anthraquinone.
CO-170001 | 5481 | Parazone 3SL | Paraquat dichloride.
CO-170002 | 5481 | Parazone 3SL | Paraquat dichloride.
OR-080036 | 400 | Vitaflo 280 | Thiram & Carboxin.
OR-980006 | 10163 | Gowan Cryolite Bait | Cryolite.
TX-190001 | 228 | NUP-17063 Herbicide | 2,4-DP-p, 2-ethylhexyl ester.
UT-180004 | 100 | GRAMOXONE SL 2.0 | Paraquat dichloride.
WA-090007 | 62719 | Rally 40WSP | Myclobutanil.
WA-110002 | 264 | Liberty 280 SL Herbicide | Glufosinate.
WA-110006 | 62719 | Entrust | Spinosad.
WA-130001 | 62719 | Crossbow | 2,4-D, butoxyethyl ester & Triclopyr, butoxyethyl ester.
WY-080001 | 400 | Comite | Propargite.

Table 1A—Product Registrations With Pending Requests for Cancellation
Registration No. | Company No. | Product name | Active ingredients
464-327 | 464 | Dowicil 150 Antimicrobial | 3,5,7-Triazatricyclo(3.3.1.1(superscript 3,7))decane, 1-(3-chloro-2-propenyl)-, chloride, (Z)-.
464-403 | 464 | Dowicil 75 Preservative | 1-(3-Chloroallyl)-3,5,7-triaza-1-azoniaadamantane chloride.

The registrants of the registrations in Table 1A, request the cancellations to be effective on August 12, 2019.

Table 1B—Product Registrations With Pending Requests for Cancellation
Registration No. | Company No. | Product name | Active ingredients
1021-2576 | 1021 | MGK 2935 | Tetramethrin; Piperonyl butoxide & Phenothrin.

The registrant of the registration in Table 1B, requests the cancellation to be effective on October 01, 2020.

Table 1C—Product Registrations With Pending Requests for Cancellation
Registration No. | Company No. | Product name | Active ingredients
40810-18 | 40810 | Irgaguard B5000 | Silver & Zinc.
40810-24 | 40810 | Irgaguard B7000 | Zinc & Silver.

The registrant of the registrations in Table 1C, requests the cancellations to be effective on October 01, 2019.

Table 1D—Product Registrations With Pending Requests for Cancellation
Registration No. | Company No. | Product name | Active ingredients
56228-10 | 56228 | Compound DRC-1339 Concentrate—Feedlots | Starlicide.
56228-17 | 56228 | Compound DRC-1339 Concentrate—Gulls | Starlicide.
56228-28 | 56228 | Compound DRC-1339 Concentrate—Pigeons | Starlicide.
56228-30 | 56228 | Compound DRC-1339 Concentrate—Staging Areas | Starlicide.
ID-050013 | 56228 | Compound DRC-1339—Staging Areas | Starlicide.
ID-050014 | 56228 | Compound DRC-1339—Feedlots | Starlicide.
IN-040001 | 56228 | Compound DRC-1339 Concentrate for Staging Areas | Starlicide.
IN-080003 | 56228 | Compound DRC-1339 Concentrate Feedlots Indiana | Starlicide.
KY-020003 | 56228 | Compound DRC-1339 Concentrate—Feedlots | Starlicide.
MD-080005 | 56228 | Compound DRC-1339 Concentrate—Staging Areas—MD | Starlicide.
MS-050008 | 56228 | DRC-1339 | Starlicide.
ND-920001 | 56228 | Compound DRC-1339 Concentrate—Feedlots | Starlicide.
NE-100003 | 56228 | Compound DRC-1339 Concentrate—Staging Areas and Feedlots—Nebraska | Starlicide.
NM-110004 | 56228 | Compound DRC-1339 Concentrate—Staging Areas | Starlicide.
NV-020005 | 56228 | Compound DRC-1339 Concentrate—Staging Areas | Starlicide.
NV-040004 | 56228 | Compound DRC-1339 98% Concentrate—Livestock Nest & Fodder Depredations | Starlicide.
OK-990001 | 56228 | Compound DRC-1339 Concentrate—Staging Areas | Starlicide.
OR-010024 | 56228 | Compound DRC-1339 Concentrate—Staging Areas | Starlicide.
PA-050002 | 56228 | DRC-1339 | Starlicide.
SD-130001 | 56228 | Compound DRC-1339 Concentrate—Staging Areas | Starlicide.
TN-080003 | 56228 | Compound DRC-1339 Concentrate—Feedlots | Starlicide.
TN-080004 | 56228 | Compound DRC-1339 Concentrate—Staging Areas | Starlicide.
TX-020003 | 56228 | Compound DRC-1339 Concentrate—Staging Areas | Starlicide.
TX-890001 | 56228 | Compound DRC-1339 Concentrate—Feedlots | Starlicide.
UT-130005 | 56228 | Compound DRC-1339 98% Concentrate—Livestock Nest & Fodder Depredations | Starlicide.
WV-010002 | 56228 | Compound DRC-1339 Concentrate—Staging Areas | Starlicide.
WV-040001 | 56228 | Compound DRC-1339 Concentrate—Staging Areas | Starlicide.
WV-110001 | 56228 | Compound DRC-1339 Concentrate—Staging Areas | Starlicide.

The registrant of the registrations in Table 1D, requests the cancellations to be effective on December 31, 2018.

Table 1E—Product Registrations With Pending Requests for Cancellation
Registration No. | Company No. | Product name | Active ingredients
WA-180007 | 92120 | Hazel | 1-Methylcyclopropene.

The registrant of the registration in Table 1E, requests the cancellation to be effective on October 12, 2018.

Table 2—Product Registrations With Pending Requests for Amendment
Registration No. | Company No. | Product name | Active ingredient | Uses to be terminated
432-978 | 432 | Stabilene Fly Repellent Insecticide | Stabilene | Companion animal uses.
1381-255 | 1381 | Saddle-Up | 2,4-D & Dicamba | Forest management use pattern.
34704-1100 | 34704 | LPI Tebuconazole Technical | Tebuconazole | Wood treatment uses.
45385-99 | 45385 | Cenol 0.5% Multipurpose Insecticide | Permethrin | Food animals (livestock) uses.

Table 3 of this unit includes the names and addresses of record for all the registrants of the products listed in Tables 1, 1A, 1B, 1C, 1D and 1E of this unit, in sequence by EPA company number. This number corresponds to the first part of the EPA registration numbers of the products listed in Table 1, Table 1A and Table 2 of this unit.

Table 3—Registrants Requesting Voluntary Cancellation and/or Amendments
EPA company No. | Company name and address
100 | Syngenta Crop Protection, LLC, 410 Swing Road, P.O. Box 18300, Greensboro, NC 27419-8300.
228 | NuFarm Americas, Inc., 4020 Aerial Center Pkwy., Ste. 101, Morrisville, NC 27560.
264 | Bayer CropScience, LP, 800 N Lindbergh Blvd., St. Louis, MO 63167.
279 | FMC Corporation, 2929 Walnut Street, Philadelphia, PA 19104.
400 | Macdermid Agricultural Solutions, Inc., C/O Arysta LifeScience North America, LLC, 15401 Weston Parkway, Suite 150, Cary, NC 27513.
432 | Bayer Environmental Science, A Division of Bayer CropScience, LP, 5000 CentreGreen Way, Suite 400, Cary, NC 27513.
464 | DDP Specialty Electronic Materials US, Inc., A wholly owned Subsidiary of The Dow Chemical Company, 1501 Larkin Center Drive, Midland, MI 48674.
499 | BASF Corporation, 26 Davis Drive, P.O. Box 13528, Research Triangle Park, NC 277093528.
1021 | Mclaughlin Gormley King Company, D/B/A MGK, 8810 Tenth Ave. North, Minneapolis, MN 55427-4319.
1258 | Arch Chemicals, Inc., 1200 Bluegrass Lakes Parkway, Alpharetta, GA 30004.
1381 | Winfield Solutions, LLC, P.O. Box 64589, St. Paul, MN 55164-0589.
1543 | W.F. Young, Inc., 302 Benton Drive, East Longmeadow, MA 01028.
1769 | NCH Corp, 2727 Chemsearch Blvd., Irving, TX 75062.
2693 | International Paint, LLC, 6001 Antoine Drive, Houston, TX 77091.
2749 | Aceto Agricultural Chemicals Corp., 4 Tri Harbor Court, Port Washington, NY 11050-4661.
3008 | Koppers Performance Chemicals, Inc., 1016 Everee Inn Road, Griffin, GA 30224.
5185 | Bio-Lab, Inc., P.O. Box 300002, Lawrenceville, GA 30049-1002.
5481 | Amvac Chemical Corporation, 4695 Macarthur Court, Suite 1200, Newport Beach, CA 92660-1706.
7969 | BASF Corporation, Agricultural Products, 26 Davis Drive, P.O. Box 13528, Research Triangle Park, NC 27709-3528.
10163 | Gowan Company, P.O. Box 5569, Yuma, AZ 85366.
10404 | Lesco, Inc., 1385 East 36th Street, Cleveland, OH 44114-4114.
10772 | Church & Dwight Co., Inc., Agent Name: Landis International, Inc., P.O. Box 5126, Valdosta, GA 31603-5126.
19713 | Drexel Chemical Company, P.O. Box 13327, Memphis, TN 38113-0327.
34704 | Loveland Products, Inc., P.O. Box 1286, Greeley, CO 80632-1286.
40810 | BASF Corporation, 100 Park Avenue, Florham Park, NJ 07932.
45385 | CTX-Cenol, Inc., 1393 East Highland Rd., Twinsburg, OH 44087.
47033 | Cascade Water Services, Inc., 113 Bloomingdale Rd., Hicksville, NY 11801.
47371 | H&S Chemicals Division of Lonza, Inc., 412 Mount Kemble Avenue, Suite 200S, Morristown, NJ 07960ch.
55852 | Champion Packaging & Distribution, Inc., Agent Name: Technology Sciences Group, Inc., 1150 18th St. NW, Suite 1000, Washington, DC 20036.
56228 | U.S. Department of Agriculture, Animal and Plant Health Inspection Service, 4700 River Road, Unit 149, Riverdale, MD 20737.
62719 | Dow Agrosciences, LLC, 9330 Zionsville Rd., 308/2e, Indianapolis, IN 46268-1054.
67690 | Sepro Corporation, 11550 N Meridian St., Suite 600, Carmel, IN 46032-4565.
69969 | Arkion Life Sciences, LLC, Agent Name: Landis International, Inc., 3815 Madison Highway, P.O. Box 5126, Valdosta, GA 31603-5126.
70506 | UPL NA, Inc., D/B/A United Phosphorus, Inc., 630 Freedom Business Center, Suite 402, King of Prussia, PA 19406.
70627 | Diversey, Inc., P.O. Box 19747, Charlotte, NC 28219-0747.
71326 | Cascade Designs, Inc., 4000 1st Avenue South, Seattle, WA 98134.
87246 | Intelligent Fabric Technologies (North America), Inc., Agent Name: Intertek Surveying Services, 16441 Space Center Blvd., Suite D-100, Houston, TX 77058.
87373 | Argite, LLC, Agent Name: Pyxis Regulatory Consulting, Inc., 4110 136th Street Ct. NW, Gig Harbor, WA 98332-9122.
89046 | AEF Global, Inc., Agent Name: Scireg, Inc., 12733 Director's Loop, Woodbridge, VA 22192.
91234 | Atticus, LLC, Agent Name: Pyxis Regulatory Consulting, Inc., 4110 136th Street Ct. NW, Gig Harbor, WA 98332-9122.
92120 | Hazel Technologies, Inc., Agent Name: The Acta Group, 2200 Penn. Ave. NW, Suite 100W, Washington, DC 20037.

III. What is the Agency's authority for taking this action?

Section 6(f)(1) of FIFRA (7 U.S.C. 136d(f)(1)) provides that a registrant of a pesticide product may at any time request that any of its pesticide registrations be canceled or amended to terminate one or more uses. FIFRA further provides that, before acting on the request, EPA must publish a notice of receipt of any such request in the Federal Register.

Section 6(f)(1)(B) of FIFRA (7 U.S.C. 136d(f)(1)(B)) requires that before acting on a request for voluntary cancellation, EPA must provide a 30-day public comment period on the request for voluntary cancellation or use termination. In addition, FIFRA section 6(f)(1)(C) (7 U.S.C. 136d(f)(1)(C)) requires that EPA provide a 180-day comment period on a request for voluntary cancellation or termination of any minor agricultural use before granting the request, unless:

1. The registrants request a waiver of the comment period, or

2. The EPA Administrator determines that continued use of the pesticide would pose an unreasonable adverse effect on the environment.

The registrants listed in Table 3 of Unit II have requested that EPA waive the 180-day comment period. Accordingly, EPA will provide a 30-day comment period on the proposed requests.

IV. Procedures for Withdrawal of Requests

Registrants who choose to withdraw a request for product cancellation or use termination should submit the withdrawal in writing to the person listed under FOR FURTHER INFORMATION CONTACT. If the products have been subject to a previous cancellation or termination action, the effective date of cancellation or termination and all other provisions of any earlier cancellation or termination action are controlling.

V. Provisions for Disposition of Existing Stocks

Existing stocks are those stocks of registered pesticide products that are currently in the United States and that were packaged, labeled, and released for shipment prior to the effective date of the action. If the requests for voluntary cancellation and amendments to terminate uses are granted, the Agency intends to publish the cancellation order in the Federal Register.

In any order issued in response to these requests for cancellation of product registrations and for amendments to terminate uses, EPA proposes to include the following provisions for the treatment of any existing stocks of the products listed in Tables 1, 1A, 1B, 1C, 1D and 1E, of Unit II.

A. For Products: 40810-18, 40810-19, 40810-23, 40810-24, 40810-25, 40810-26, 40810-27 and 55852-4

The registrants have requested to the Agency via letter to sell existing stocks for an 18-month period, for products 40810-18, 40810-19, 40810-23, 40810-24, 40810-25, 40810-26, 40810-27 and 55852-4.

For all other voluntary product cancellations, identified in Tables 1, 1A, 1B, 1C, 1D and 1E of Unit II, registrants will be permitted to sell and distribute existing stocks of voluntarily canceled products for 1 year after the effective date of the cancellation, which will be the date of publication of the cancellation order in the Federal Register.

Thereafter, registrants will be prohibited from selling or distributing the products identified in Tables 1, 1A, 1B, 1C, 1D and 1E of Unit II, except for export consistent with FIFRA section 17 (7 U.S.C. 136o) or for proper disposal.

Once EPA has approved product labels reflecting the requested amendments to terminate uses, identified in Table 2 of Unit II, registrants will be permitted to sell or distribute products under the previously approved labeling for a period of 18 months after the date of Federal Register publication of the cancellation order, unless other restrictions have been imposed. Thereafter, registrants will be prohibited from selling or distributing the products whose labels include the terminated uses identified in Table 2 of Unit II, except for export consistent with FIFRA section 17 or for proper disposal.

Persons other than the registrant may sell, distribute, or use existing stocks of canceled products and products whose labels include the terminated uses until supplies are exhausted, provided that such sale, distribution, or use is consistent with the terms of the previously approved labeling on, or that accompanied, the canceled products and terminated uses.

Authority: 7 U.S.C. 136 et seq.

Dated: May 21, 2019.
Delores Barber,
Director, Information Technology and Resources Management Division, Office of Pesticide Programs.

[FR Doc. 2019-11415 Filed 5-30-19; 8:45 am]

BILLING CODE 6560-50-P